DEPARTMENT OF HOMELAND SECURITY

Federal Emergency Management Agency

[Docket ID FEMA-2020-0002; Internal Agency Docket No. FEMA-B-2056]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alaska: Valdez-Cordova Census Area | City of Valdez (19-10-0070P). | The Honorable Jeremy O'Neil, Mayor, City of Valdez, P.O. Box 307, Valdez, AK 99686. | City Hall, 212 Chenega Avenue, Valdez, AK 99686. | https://msc.fema.gov/portal/advanceSearch. | Nov. 13, 2020 | 020094
Arizona:
Maricopa | City of Buckeye (20-09-0463P). | The Honorable Jackie A. Meck, Mayor, City of Buckeye, 530 East Monroe Avenue, Buckeye, AZ 85326. | Engineering Department, 530 East Monroe Avenue, Buckeye, AZ 85326. | https://msc.fema.gov/portal/advanceSearch. | Nov. 20, 2020 | 040039
Maricopa | City of Chandler (20-09-0945P). | The Honorable Kevin Hartke, Mayor, City of Chandler, P.O. Box 4008, Chandler, AZ 85244. | Transportation & Development Department, 215 East Buffalo Street, Chandler, AZ 85225. | https://msc.fema.gov/portal/advanceSearch. | Dec. 11, 2020 | 040040
Maricopa | City of Goodyear (20-09-1530P). | The Honorable Georgia Lord, Mayor, City of Goodyear, 190 North Litchfield Road, Goodyear, AZ 85338. | Engineering and Development Services, 14455 West Van Buren Street, Suite D101, Goodyear, AZ 85338. | https://msc.fema.gov/portal/advanceSearch. | Dec. 11, 2020 | 040046
Maricopa | City of Litchfield Park (20-09-0240P). | The Honorable Thomas L. Schoaf, Mayor, City of Litchfield Park, 214 West Wigwam Boulevard, Litchfield Park, AZ 85340. | City Hall, 214 West Wigwam Boulevard, Litchfield Park, AZ 85340. | https://msc.fema.gov/portal/advanceSearch. | Oct. 20, 2020 | 040128
Maricopa | Unincorporated Areas of Maricopa County (19-09-2188P). | The Honorable Clint L. Hickman, Chairman, Board of Supervisors, Maricopa County, 301 West Jefferson Street, 10th Floor, Phoenix, AZ 85003. | Flood Control District of Maricopa County, 2801 West Durango Street, Phoenix, AZ 85009. | https://msc.fema.gov/portal/advanceSearch. | Dec. 11, 2020 | 040037
Pima | Town of Marana (19-09-1247P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Sep. 24, 2020 | 040118
Pima | Town of Marana (20-09-0618P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Sep. 18, 2020 | 040118
Pima | Town of Oro Valley (20-09-1126P). | The Honorable Joseph Winfield, Mayor, Town of Oro Valley, 11000 North La Canada Drive, Town of Oro Valley, AZ 85737. | Planning and Zoning Department, 11000 North La Canada Drive, Oro Valley, AZ 85737. | https://msc.fema.gov/portal/advanceSearch. | Nov. 19, 2020 | 040109
Pima | Unincorporated Areas of Pima County (20-09-0478P). | The Honorable Ramón Valdez, Chairman, Board of Supervisors, Pima County, 130 West Congress Street, 11th Floor, Tucson, AZ 85701. | Pima County Flood Control District, 201 North Stone Avenue, 9th Floor, Tucson, AZ 85701. | https://msc.fema.gov/portal/advanceSearch. | Nov. 3, 2020 | 040073
California:
Fresno | City of Clovis (20-09-0450P). | The Honorable Drew Bessinger, Mayor, City of Clovis, 1033 5th Street, Clovis, CA 93612. | City Clerk's Office, Civic Center, 1033 5th Street, Clovis, CA 93612. | https://msc.fema.gov/portal/advanceSearch. | Dec. 14, 2020 | 060044
Imperial | Unincorporated Areas of Imperial County (20-09-0728P). | The Honorable Luis A. Plancarte, Chairman, Board of Supervisors, Imperial County, 940 West Main Street, Suite 209, El Centro, CA 92243. | Imperial County, Public Works Department, 155 South 11th Street, El Centro, CA 92243. | https://msc.fema.gov/portal/advanceSearch. | Nov. 18, 2020 | 060065
Los Angeles | City of Santa Clarita (20-09-0137P). | The Honorable Cameron Smyth, Mayor, City of Santa Clarita, 23920 Valencia Boulevard, Suite 300, Santa Clarita, CA 91355. | City Hall, Planning Department, 23920 Valencia Boulevard, Suite 300, Santa Clarita, CA 91355. | https://msc.fema.gov/portal/advanceSearch. | Sep. 23, 2020 | 060729
Placer | City of Roseville (20-09-0505P). | The Honorable John B. Allard II, Mayor, City of Roseville, 311 Vernon Street, Roseville, CA 95678. | Engineering Department, 316 Vernon Street, Roseville, CA 95678. | https://msc.fema.gov/portal/advanceSearch. | Nov. 23, 2020 | 060243
Santa Barbara | City of Santa Barbara (19-09-2341P). | The Honorable Cathy Murillo, Mayor, City of Santa Barbara, 735 Anacapa Street, Santa Barbara, CA 93101. | Community Development Department, Building and Safety Division, 630 Garden Street, Santa Barbara, CA 93101. | https://msc.fema.gov/portal/advanceSearch. | Dec. 8, 2020 | 060335
Santa Barbara | Unincorporated Areas of Santa Barbara County (19-09-2341P). | The Honorable Gregg Hart, Chairman, Board of Supervisors, Santa Barbara County, 105 East Anapamu Street, 4th Floor, Santa Barbara, CA 93101. | Santa Barbara County Public Works, Water Resources Division, 130 East Victoria Street, Suite 200, Santa Barbara, CA 93101. | https://msc.fema.gov/portal/advanceSearch. | Dec. 8, 2020 | 060331
Santa Clara | City of Sunnyvale (20-09-0849P). | The Honorable Larry Klein, Mayor, City of Sunnyvale, 456 West Olive Avenue, Sunnyvale, CA 94086. | Public Works Department, 456 West Olive Avenue, Sunnyvale, CA 94086. | https://msc.fema.gov/portal/advanceSearch. | Nov. 18, 2020 | 060352
Florida: St. Johns | Unincorporated Areas of St. Johns County (20-04-1346P). | The Honorable Jeb S. Smith, Chair, St. Johns County Board of Commissioners, 500 San Sebastian View, St. Augustine, FL 32084. | St. Johns Administration Building, 4020 Lewis Speedway, St. Augustine, FL 32084. | https://msc.fema.gov/portal/advanceSearch. | Nov. 20, 2020 | 125147
Idaho: Ada | Unincorporated Areas of Ada County (20-10-0791P). | Ms. Kendra Kenyon, Chair, Ada County Board of Commissioners, Ada County Courthouse, 200 West Front Street, 3rd Floor, Boise, ID 83702. | Ada County Courthouse, 200 West Front Street, Boise, ID 83702. | https://msc.fema.gov/portal/advanceSearch. | Nov. 23, 2020 | 160001
Illinois:
Champaign | City of Champaign (18-05-1977P). | The Honorable Deborah Frank Feinen, Mayor, City of Champaign, 102 North Neil Street, Champaign, IL 61820. | City Hall, 102 North Neil Street, Champaign, IL 61820. | https://msc.fema.gov/portal/advanceSearch. | Nov. 12, 2020 | 170026
DuPage | City of Naperville (20-05-2895P). | The Honorable Steve Chirico, Mayor, City of Naperville, Municipal Center, 400 South Eagle Street, Naperville, IL 60540. | Municipal Center, 400 South Eagle Street, Naperville, IL 60540. | https://msc.fema.gov/portal/advanceSearch. | Dec. 17, 2020 | 170213
Will | City of Lockport (19-05-1153P). | The Honorable Steven Streit, Mayor, City of Lockport, 222 East 9th Street, Lockport, IL 60441. | Public Works and Engineering, 17112 South Prime Boulevard, Lockport, IL 60441. | https://msc.fema.gov/portal/advanceSearch. | Dec. 21, 2020 | 170703
Will | Unincorporated Areas of Will County (19-05-1153P). | Denise E. Winfrey, County Executive, Will County, Will County Office Building, 302 North Chicago Street, Joliet, IL 60432. | Land Use Department, 58 East Clinton Street, Suite 100, Joliet, IL 60432. | https://msc.fema.gov/portal/advanceSearch. | Dec. 21, 2020 | 170695
Indiana:
Allen | City of Fort Wayne (20-05-2353P). | The Honorable Tom Henry, Mayor, City of Fort Wayne, 200 East Berry Street, Suite 420, Fort Wayne, IN 46802. | Department of Planning Services, 200 East Berry Street, Suite 150, Fort Wayne, IN 46802. | https://msc.fema.gov/portal/advanceSearch. | Nov. 24, 2020 | 180003
Allen | Unincorporated Areas of Allen County (20-05-2353P). | Mr. Nelson Peters, District 1 Commissioner, Allen County Citizens Square, 200 East Berry Street, Suite 410, Fort Wayne, IN 46802. | Allen County, Department of Planning Services, 200 East Berry Street, Suite 150, Fort Wayne, IN 46802. | https://msc.fema.gov/portal/advanceSearch. | Nov. 24, 2020 | 180302
Iowa: Dallas | City of Waukee (20-07-0452P). | The Honorable Courtney Clarke, Mayor, City of Waukee, 230 West Hickman Road, Waukee, IA 50263. | City Hall, 230 West Hickman Road, Waukee, IA 50263. | https://msc.fema.gov/portal/advanceSearch. | Jan. 4, 2021 | 190678
Kansas: Johnson | City of Shawnee (20-07-0477P). | The Honorable Michelle Distler, Mayor, City of Shawnee, City Hall, 11110 Johnson Drive, Shawnee, KS 66203. | City Hall, 11110 Johnson Drive, Shawnee, KS 66203. | https://msc.fema.gov/portal/advanceSearch. | Dec. 23, 2020 | 200177
Michigan: Macomb | City of Sterling Heights (20-05-1130P). | The Honorable Michael Taylor, Mayor, City of Sterling Heights, City Hall, 40555 Utica Road, Sterling Heights, MI 48311. | City Hall, 40555 Utica Road, Sterling Heights, MI 48313. | https://msc.fema.gov/portal/advanceSearch. | Nov. 9, 2020 | 260128
Minnesota: Nobles | City of Worthington (20-05-0776P). | The Honorable Mike Kuhle, Mayor, City of Worthington, 303 9th Street, Worthington, MN 56187. | City Hall, 303 9th Street, Worthington, MN 56187. | https://msc.fema.gov/portal/advanceSearch. | Dec. 31, 2020 | 270321
Nebraska: Saline | City of Wilber (20-07-1032P). | The Honorable Roger Chrans, Mayor, City of Wilber, P.O. Box 486, Wilber, NE 68465. | City Hall, 101 West 3rd, Wilber, NE 68465. | https://msc.fema.gov/portal/advanceSearch. | Dec. 10, 2020 | 310189
Nevada:
Carson City | City of Carson City (20-09-1420X). | The Honorable Robert L. Crowell, Mayor, City of Carson City, City Hall, 201 North Carson Street, Suite 2, Carson City, NV 89701. | Building Division, Permit Center, 108 East Proctor Street, Carson City, NV 89701. | https://msc.fema.gov/portal/advanceSearch. | Dec. 17, 2020 | 320001
Clark | City of North Las Vegas (20-09-0781P). | The Honorable John J. Lee, Mayor, City of North Las Vegas, 2250 Las Vegas Boulevard North, North Las Vegas, NV 89030. | Public Works Department, 2250 Las Vegas Boulevard North, Suite 200, North Las Vegas, NV 89030. | https://msc.fema.gov/portal/advanceSearch. | Dec. 15, 2020 | 320007
Lyon | Unincorporated Areas of Lyon County (20-09-1267P). | The Honorable Vida Keller, Chair, Board of Commissioners, Lyon County, P.O. Box 201, Silver Springs, NV 89429. | Lyon County Planning Division, 27 South Main Street, Yerington, NV 89447. | https://msc.fema.gov/portal/advanceSearch. | Nov. 19, 2020 | 320029
New York: Dutchess | Town of LaGrange (19-02-0952P). | The Honorable Alan Bell, Supervisor, Town of LaGrange, 120 Stringham Road, LaGrangeville, NY 12540. | Town Hall, 120 Stringham Road, LaGrangeville, NY 12540. | https://msc.fema.gov/portal/advanceSearch. | Dec. 30, 2020 | 361011
Ohio:
Fairfield | Unincorporated Areas of Fairfield County (20-05-2573P). | The Honorable Dave L. Levacy, Fairfield County Commissioner, 210 East Main Street, Room 301, Lancaster, OH 43130. | Fairfield County Regional Planning Commission, 210 East Main Street, Room 104, Lancaster, OH 43130. | https://msc.fema.gov/portal/advanceSearch. | Nov. 25, 2020 | 390158
Fairfield | Unincorporated Areas of Fairfield County (20-05-2574P). | The Honorable Dave L. Levacy, Fairfield County Commissioner, 210 East Main Street, Room 301, Lancaster, OH 43130. | Fairfield County Regional Planning Commission, 210 East Main Street, Room 104, Lancaster, OH 43130. | https://msc.fema.gov/portal/advanceSearch. | Nov. 25, 2020 | 390158
Oregon: Clackamas | City of Happy Valley (20-10-0119P). | The Honorable Tom Ellis, Mayor, City of Happy Valley, 16000 Southeast Misty Drive, Happy Valley, OR 97086. | City Hall, 12915 Southeast King Road, Happy Valley, OR 97086. | https://msc.fema.gov/portal/advanceSearch. | Nov. 12, 2020 | 410026
Texas:
Collin | Town of Prosper (20-06-0402P). | The Honorable Ray Smith, Mayor, Town of Prosper, P.O. Box 307, Prosper, TX 75078. | Town Hall, 250 West 1st Street, Prosper, TX 75078. | https://msc.fema.gov/portal/advanceSearch. | Dec. 23, 2020 | 480141
Collin and Dallas | City of Dallas (20-06-1079P). | The Honorable Eric Johnson, Mayor, City of Dallas, City Hall, 1500 Marilla Street, Suite 5EN, Dallas, Texas 75201. | Trinity Watersheed Management Department/Floodplain and Drainage Management, 320 East Jefferson Boulevard, Room 307, Dallas, TX 75203. | https://msc.fema.gov/portal/advanceSearch. | Dec. 11, 2020 | 480171
Dallas | City of Irving (20-06-1079P). | The Honorable Rick Stopfer, Mayor, City of Irving, City Hall, 825 West Irving Boulevard, Irving, TX 75060. | Capital Improvement Department, 825 West Irving Boulevard, Irving, TX 75060. | https://msc.fema.gov/portal/advanceSearch. | Dec. 11, 2020 | 480180
Dallas | Unincorporated Areas of Dallas County (20-06-1079P). | The Honorable Clay L. Jenkins, County Judge, Dallas County, Administration Building, 411 Elm Street, Dallas, TX 75202. | Dallas County Public Works Department, 411 Elm Street, 4th Floor, Dallas, TX 75202. | https://msc.fema.gov/portal/advanceSearch. | Dec. 11, 2020 | 480165
Wisconsin:
Brown | Unincorporated Areas of Brown County (19-05-5377P). | Mr. Patrick Buckley, Chair, Brown County Board of Supervisors, P.O. Box 23600, Green Bay, WI 54305. | Brown County Zoning Office, 305 East Walnut Street, Green Bay, WI 54301. | https://msc.fema.gov/portal/advanceSearch. | Nov. 24, 2020 | 550020
Brown | Village of Howard (20-05-2635P). | Mr. Burt McIntyre, Village President, Village of Howard, 2456 Glendale Avenue, Green Bay, WI 54313. | Village Hall, 2456 Glendale Avenue, Green Bay, WI 54313. | https://msc.fema.gov/portal/advanceSearch. | Nov. 27, 2020 | 550023
Buffalo | Unincorporated Areas of Buffalo County (20-05-1547P). | Mr. Dennis Bork, Chair, Buffalo County Board, P.O. Box 58, Alma, WI 54610. | Buffalo County Courthouse, 407 South 2nd Street, Alma, WI 54610. | https://msc.fema.gov/portal/advanceSearch. | Dec. 4, 2020 | 555547
Chippewa | City of Chippewa Falls (20-05-0796P). | The Honorable Gregory Hoffman, Mayor, City of Chippewa Falls, 30 West Central Street, Chippewa Falls, WI 54729. | City Hall, Inspection Zoning Office, 30 West Central Street, Chippewa Falls, WI 54729. | https://msc.fema.gov/portal/advanceSearch. | Oct. 26, 2020 | 550044

[FR Doc. 2020-21300 Filed 9-25-20; 8:45 am]

BILLING CODE 9110-12-P